DEPARTMENT OF HOMELAND SECURITY

Federal Emergency Management Agency

[Docket ID FEMA-2019-0013; OMB No. 1660-0054]

Agency Information Collection Activities: Proposed Collection; Comment Request; Assistance to Firefighters Grant Program and Fire Prevention and Safety Grants—Grant Application Supplemental Information

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning grant application information necessary to assess the needs and benefits of applicants for the Assistance to Firefighters Grant Program and Fire Prevention and Safety Grant Program.

DATES: Comments must be submitted on or before August 16, 2019.

ADDRESSES: To avoid duplicate submissions to the docket, please use only one of the following means to submit comments:

(1) Online. Submit comments at www.regulations.gov under Docket ID FEMA-2019-0013. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: William Dunham, Fire Program Specialist, Grant Program Directorate, 202-786-9813. You may contact the Information Management Division for copies of the proposed collection of information at email address: FEMA-Information-Collections-Management@fema.dhs.gov.

SUPPLEMENTARY INFORMATION: Information sought under this submission will comprise of applications for Assistance to Firefighters Grant Program (AFG) and Fire Prevention and Safety (FPS) grants, Semi-Annual Performance Report, and Final Performance report. The authorizing legislation allows FEMA to fund fire department activities. The authority for AFG and FPS is derived from the Federal Fire Protection and Control Act of 1974 (15 U.S.C. 2229 et seq.), as amended. The information collected through the programs' applications is the minimum necessary to evaluate grant applications and is necessary for FEMA to comply with mandates delineated in AFG laws.

Collection of Information

Title: Assistance to Firefighters Grant Program and Fire Prevention and Safety Grants-Grant Application Supplemental Information.

Type of Information Collection: Revision of a currently approved information collection.

OMB Number: 1660-0054.

FEMA Forms: FEMA Form FEMA Form 080-0-2, AFG Application (General Questions and Narrative); FEMA Form 080-0-2a, Activity Specific Questions for AFG Vehicle Applicants; FEMA Form 080-0-2b, Activity Specific Questions for AFG Operations and Safety Applications; FEMA Form 080-0-3, Activity Specific Questions for Fire Prevention and Safety Applicants; FEMA Form 080-0-3a, Fire Prevention and Safety; FEMA Form 080-0-3b, Research and Development; and FEMA Form 080-0-0-13, Semi-Annual Performance Report; FEMA Form 080-0-0-16, Fire Grants Final Performance Report.

Abstract: The FEMA forms for this collection are used to objectively evaluate each of the anticipated applicants to determine which applicants' submission in each of the AFG and FP&S activities are close to the established program priorities. FEMA also uses the information to determine eligibility and whether the proposed use of funds meets the requirements and intent of AFG legislation.

Affected Public: State, Local or Tribal Government, and Not-for-profit institutions.

Estimated Number of Respondents: 27,220.

Estimated Number of Responses: 29,830.

Estimated Total Annual Burden Hours: 167,290.34.

Estimated Total Annual Respondent Cost: $9,426,559.74.

Estimated Respondents' Operation and Maintenance Costs: N/A.

Estimated Respondents' Capital and Start-Up Costs: N/A.

Estimated Total Annual Cost to the Federal Government: $3,315,334.75.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

William H. Holzerland,
Sr. Director, Information Management Division, Office of the Chief Administrative Officer, Mission Support, Federal Emergency Management Agency, Department of Homeland Security.

[FR Doc. 2019-12746 Filed 6-14-19; 8:45 am]

BILLING CODE 9111-78-P